DEPARTMENT OF THE INTERIOR

Fish and Wildlife Service

Emergency Exemption: Issuance of Permit for Endangered Species

AGENCY: Fish and Wildlife Service, Interior.

ACTION: Notice of emergency issuance of permit for endangered species.

SUMMARY: The following permit was issued.

ADDRESSES: Documents and other information submitted for this application are available for review, subject to the requirements of the Privacy Act and Freedom of Information Act, by any party who submits a written request for a copy of such documents to: U.S. Fish and Wildlife Service, Division of Management Authority, 4401 North Fairfax Drive, Room 700, Arlington, Virginia 22203, telephone 703/358-2104 or fax 703/358-2281.

FOR FURTHER INFORMATION CONTACT: Division of Management Authority, telephone 703/358-2104.

SUPPLEMENTARY INFORMATION: On July 19, 2006, the U.S. Fish and Wildlife Service (Service) issued a permit (PRT-125946) to the Wildlife Conservation Society (WCS/Bronx Zoo), New York, New York, to import an orphaned male snow leopard (Uncia uncia) from Pakistan for the purpose of enhancement of the survival of the species. Authorization of this action is under Section 10(c) of the Endangered Species Act of 1973, as amended (16 U.S.C. 1531 et seq.). The Service determined that an emergency affecting the health and life of the snow leopard existed, and that no reasonable alternative was available to the applicant for the following reasons.

The WCS requested a permit to import a male snow leopard from Pakistan. The animal, born in June 2005, was orphaned at approximately three weeks of age when a farmer killed his mother in self-defense. The animal was turned over to the Pakistani Northern Areas Forest Department. Prior to the earthquake in October 2005, the Government of Pakistan intended to keep the animal in Pakistan. However, after the earthquake, all available resources were dedicated to earthquake relief; the required resources needed to house and care for the orphaned snow leopard were no longer available.

The Government of Pakistan, after determining that it could not care for the animal, requested assistance from the WCS, which has a presence in Pakistan. Since the animal was removed from the wild at such a young age, it is highly unlikely that it could ever be reintroduced to the wild. The snow leopard is currently being housed in a facility that is inadequate for the proper care of the animal. The WCS, through its facility, the Bronx Zoo, has extensive experience with both wild and captive snow leopards. The facilities at the Bronx Zoo have well-trained staff and the resources necessary to maintain this animal.

The WCS signed a Memorandum of Understanding with the Government of Pakistan that outlined certain conditions and arrangements in regards to the import of this animal. In exchange for importing the animal, the WCS will provide technical support for and assist in raising funds for a wild foundling care facility in Northern Areas, Pakistan, that will have the particular focus on care and management of foundling snow leopards. In addition, the Government of Pakistan will retain ownership of the snow leopard and WCS agrees to return the animal to Pakistan when so requested.

Therefore, notice is hereby given that on the date above, as authorized by the provisions of the Endangered Species Act of 1973, as amended (16 U.S.C. 1531 et seq.), the Fish and Wildlife Service issued the requested permit subject to certain conditions set forth therein. As required by the ESA, the application requesting this import was filed in good faith by the WCS. In granting authorization for this import, the Service has determined that it would not operate to the disadvantage of the endangered species since the animal had been removed from the wild for purposes other than importing it to the United States. Further, since the animal is currently housed in facilities that are inadequate for its long-term survival, housing it at the Bronx Zoo would ensure that this specimen of a highly endangered species will survive. Lastly, the granting of this permit is consistent with the purposes and policy set forth in section 2 of the Endangered Species Act of 1973, as amended.

Dated: July 19, 2006.
Michael S. Moore,
Senior Permit Biologist, Branch of Permits, Division of Management Authority.

[FR Doc. E6-11961 Filed 7-25-06; 8:45 am]

BILLING CODE 4310-55-P